DEPARTMENT OF VETERANS AFFAIRS

Enhanced-Use Lease of the Louis Stokes Cleveland VA Medical Center, Brecksville, OH

AGENCY: Department of Veterans Affairs.

ACTION: Notice of Intent to Enter into an Enhanced-Use Lease.

SUMMARY: The Secretary of the Department of Veterans Affairs (VA) intends to enter into an enhanced-use lease (EUL) for the Louis Stokes Cleveland VA Medical Center, Brecksville, Ohio. Under the terms of the EUL, the selected lessee/developer would provide the Department with fair consideration in the form of discounted services needed at its Cleveland (Wade Park) campus. Such services would include administrative space and parking services. Additionally, the selected lessee/developer would make domiciliary services available to veterans in a private facility located within operational proximity of Wade Park.

FOR FURTHER INFORMATION CONTACT: Gregg Buckley, Office of Asset Enterprise Management (004B), Department of Veterans Affairs, 810 Vermont Avenue, NW., Washington, DC 20420, (202) 273-5518.

SUPPLEMENTARY INFORMATION: Title 38 U.S.C. 8161, et seq. specifically provides that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: February 27, 2007.
R. James Nicholson,
Secretary of Veterans Affairs.

[FR Doc. E7-4014 Filed 3-6-07; 8:45 am]

BILLING CODE 8320-01-P